SMALL BUSINESS ADMINISTRATION

[CVP SBIC, L.P.; License No. 09/79-0449]

Notice Seeking Exemption Under Section 312 of the Small Business Investment Act, Conflicts of Interest

Notice is hereby given that CVP SBIC, L.P., 1010 El Camino Real, Suite 250, Menlo Park, CA 94025, a Federal Licensee under the Small Business Investment Act of 1958, as amended (“the Act”), in connection with the financing of a small concern, has sought an exemption under section 312 of the Act and § 107.730, Financings Which Constitute Conflicts of Interest of the Small Business Administration (“SBA”) Rules and Regulations (13 CFR 107.730). CVP SBIC, L.P. proposes to provide equity/debt security financing to Telcontar. The financing is contemplated for national sales force expansion and working capital.

The financing is brought within the purview of § 107.730(a)(1) of the Regulations because Cardinal Venture Partners, L.P. and Cardinal Venture Affiliates, L.P., Associates of CVP SBIC, L.P., collectively own more than ten percent of Telcontar.

Notice is hereby given that any interested person may submit written comments on the transaction to the Associate Administrator for Investment, U.S. Small Business Administration, 409 Third Street, SW., Washington, DC 20416.

Dated: November 20, 2003.
Jeffrey Pierson,
Associate Administrator for Investment.

[FR Doc. 03-31011 Filed 12-15-03; 8:45 am]

BILLING CODE 8025-01-P